DEPARTMENT OF COMMERCE

National Oceanic and Atmospheric Administration

NOAA's Oceans and Human Health Initiative Advisory Panel Meeting

AGENCY: National Ocean Service (NOS), National Oceanic and Atmospheric Administration (NOAA), Department of Commerce.

ACTION: Notice of open meeting.

SUMMARY: The Oceans and Human Health Act of 2004 (Pub. L. 108 447) created a national, interagency research program to improve understanding of the role of the oceans in human health. Section 903(a) of this Act authorizes the Secretary of Commerce to establish an Oceans and Human Health Initiative (OHHI) to coordinate and implement research and activities of the National Oceanic and Atmospheric Administration (NOAA) related to the role of the oceans, the coasts, and the Great Lakes in human health. Section 903(b) of the OHH Act further authorizes the Secretary of Commerce to establish an oceans and human health advisory panel to assist in the development and implementation of the NOAA OHHI. This advisory panel is to provide for balanced representation of individuals with multi-disciplinary expertise in the marine and biomedical sciences and is not subject to the Federal Advisory Committee Act (5 U.S.C. App.).

In 2005, authorities provided to the Secretary of Commerce under the OHH Act were delegated to the Under Secretary of Commerce for Oceans and Atmosphere and then redesignated to the Assistant Administrator for Ocean Services and Coastal Zone Management. Initial appointments to the advisory panel were completed by the NOAA Assistant Administrator for Ocean Services and Coastal Zone Management in May 2006.

Date and Time: The meeting will be held Thursday March 8, 2007 from 8:30 a.m.-2:30 p.m. and Friday March 9, 2007 from 8:30 a.m.-2:30 p.m.

Location: The meeting will be held at the Hotel Deca, Seattle Washington, 4507 Brooklyn Ave, NE., Seattle, Washington (WA) 98105; (Tel) 206-634-2000. Meeting rooms are the Chancellor and College Rooms and subject to change.

FOR FURTHER INFORMATION CONTACT: Dr. Paul Sandifer, National Ocean Service Senior Scientist for Coastal Ecology, c/o Hollings Marine Laboratory, 331 Fort Johnson Road, Charleston, South Carolina 29412; (Tel) 843-762-8814 (E-mail: paul.sandifer@noaa.gov) or visit the OHHI Web site: http://www.eol.ucar.edu/project/ohhi/.

Matters to be Considered: (1) Approval of Advisory Panel Charter; (2) review of revised vision, mission and goals for the OHHI; (3) review of OHHI strategic objectives; (4) review of on-going research and outreach and education activities, products and services; (5) review of Congressionally mandated interagency and agency OHH reports.

Dated: February 8, 2007.
Marie Colton,
Technical Director, NOAA, National Ocean Service.

[FR Doc. 07-699 Filed 2-14-07; 8:45 am]

BILLING CODE 3510-IE-M